DEPARTMENT OF COMMERCE

International Trade Administration

19 CFR Part 360

[Docket No. 200610-0155]

RIN 0625-AB17

Modification of Regulations Regarding the Steel Import Monitoring and Analysis System; Correction

AGENCY: Enforcement and Compliance, International Trade Administration, Department of Commerce.

ACTION: Proposed rule; correction.

SUMMARY: This document corrects an inaccuracy in the proposed rule to modify the Department of Commerce's (Commerce's) regulations regarding the Steel Import Monitoring and Analysis (SIMA) system published on Monday, March 30, 2020.

DATES: Applicable date: June 22, 2020.

ADDRESSES: The comment period for comments on the proposed rule closed on April 29, 2020. All comments received in response to the proposed rule are available on the Federal eRulemaking Portal at http://www.Regulations.gov. Commerce will not accept any additional comments regarding the proposed rule.

FOR FURTHER INFORMATION CONTACT: Julie Al-Saadawi at (202) 482-1930 or Brandon Custard at (202) 482-1823.

SUPPLEMENTARY INFORMATION: The following correction is made to the proposed rule to modify the regulations regarding the SIMA system. (85 FR 17515, March 30, 2020). Commerce is removing the following statements on page 17518, column two, first paragraph: “Because the mill test certification is not currently required by CBP for entry purposes or required by Commerce for antidumping and countervailing duty purposes, Commerce cannot guarantee each importer would have a copy of the mill test certification. However, Commerce expects that the mill test certification would be included with the standard sales documentation for steel mill imports and therefore would be readily available to the importer.” Commerce is replacing this language with the following: “Specifically, the mill test certification is currently required by CBP for entry purposes, in accordance with 19 CFR 141.89 and 142.6, and Commerce expects that the mill test certification would be included with the standard sales documentation for steel mill imports and therefore would be readily available to the importer.”

Dated: June 10, 2020.
Jeffrey I. Kessler,
Assistant Secretary for Enforcement and Compliance.

[FR Doc. 2020-12947 Filed 6-19-20; 8:45 am]

BILLING CODE 3510-DS-P